DEPARTMENT OF AGRICULTURE

Commodity Credit Corporation

7 CFR Part 1464

RIN 0560-AH06

Purchase of Crop Insurance for Tobacco Price Support Eligibility

AGENCY: Commodity Credit Corporation, USDA.

ACTION: Final rule.

SUMMARY: This action amends the Tobacco Loan Program regulations to reflect a statutory change that removes the former statutory requirement that tobacco must be insured to be eligible for price support loans and to revise various organizational titles and OMB information collection control numbers.

EFFECTIVE DATE: November 20, 2003.

FOR FURTHER INFORMATION CONTACT: Ann Wortham, Agricultural Program Specialist, Tobacco Division, Farm Service Agency, USDA, STOP 0514, 1400 Independence Avenue, SW., Washington, DC 20250-0514; Telephone: (202) 720-2715; e-mail: ann_wortham@wdc.usda.gov.

SUPPLEMENTARY INFORMATION:

Discussion of Final Rule

This rule will remove the requirement that eligible producers must purchase crop insurance on their tobacco in order to be eligible to receive price support loans under the Tobacco Loan Program. At one time, but not presently, section 508(b)(7) of the Federal Crop Insurance Act (7 U.S.C. 1508(b)(7)) required tobacco producers to purchase crop insurance in order to be eligible to receive a loan. Section 192(a)(2) of the Federal Agriculture Improvement and Reform Act of 1996 (Pub. L. 104-127) removed that requirement. This rule removes the crop insurance provisions of § 1464.7(f). Also, this rule implements name changes in certain USDA institutions. Finally, the rule will correct the Office of Management and Budget (OMB) control numbers for the forms used in administering the regulations in the part. Because this rule removes requirements or makes technical changes only, withholding the publication of this rule for comment would be contrary to the public interest and unnecessary.

Executive Order 12866

This final rule is issued in conformance with Executive Order 12866, has been determined to be not significant, and therefore has not been reviewed by the Office of Management and Budget.

Regulatory Flexibility Act

The Regulatory Flexibility Act is not applicable to this rule because the United States Department of Agriculture (USDA) is not required by 5 U.S.C. 553 or any other law to publish a notice of proposed rulemaking with respect to the substance of this rule.

Environmental Review

FSA has determined that this action does not constitute a major Federal action significantly affecting the quality of the human environment. In accordance with the National Environmental Policy Act of 1969 (NEPA) (42 U.S.C. 4321 et seq.), and the FSA regualtions for NEPA at 7 CFR part 799, neither an Environmental Impact Statement nor an environmental assessment is required. A copy of the environmental evaluation used to make this determination is available for inspection and review upon request.

Executive Order 12372

These corrections are not subject to the provisions of Executive Order 12372, which require consultation with State and local officials. See the notice related to 7 CFR part 3015, subpart V, published at 48 FR 29115 (June 24, 1983).

Unfunded Mandates

This rule contains no Federal mandates under the provisions of Title II of the Unfunded Mandates Reform Act of 1995 (UMRA) for State, local and tribal governments or the private sector. Therefore this rule is not subject to the requirements of sections 202 and 205 of the UMRA.

Federal Assistance Program

The number and title of the Federal assistance program, as found in the Catalogue of Federal Domestic Assistance, to which this rule applies are:

10.051—Commodity Loans and Loan Deficiency Payments

Paperwork Reduction Act

This rule does not affect the information collection requirements of 7 CFR part 1464 approved by OMB and assigned OMB control numbers 0560-0058 and 0560-0182.

List of Subjects in Part 1464

Eligibility, Price support, Tobacco.

Accordingly, as set forth in the preamble, 7 CFR part 1464 is amended as follows:

PART 1464—TOBACCO

1. The authority citation for 7 CFR part 1464 continues to read as follows:

Authority: 7 U.S.C. 1421, 1423, 1441, 1445, 1445-1, and 1445-2; 15 U.S.C. 714b, 714c.

2. In the table below, for each section indicated in the left column, remove the phrase indicated in the middle column wherever it appears in the section, and add the phrase indicated in the right column:

Section | Remove | Add
1464.1(a); 1464.101(b); 1464.105 | Tobacco and Peanuts Division | Tobacco Division.
1464.2(b)(2)(iii); 1464.2(b)(2)(iv); 1464.2(b)(2)(v); 1464.2(b)(2)(vii) | County FSA office | FSA county office.
1464.8(e)(2); 1464.10(e) | County ASC committee | FSA county committee.
1464.10(j)(2); 1464.10(j)(3) | State ASC committee | FSA State committee.
1464.108 | National Appeals Division, FSA | National Appeals Division, USDA.
Part 1464, Appendix A | Agricultural Stabilization and Conservation Service | Farm Service Agency.

§ 1464.4 [Amended]

2. In the first sentence of § 1464.4(b), revise the phrase “Claim Control Record, Form ASCS-604” to read “Claim Control Record.”

§ 1464.7 [Amended]

3. In § 1464.7, remove paragraph (f).

4. Revise § 1464.24 to read as follows:

§ 1464.24 OMB control numbers assigned pursuant to the Paperwork Reduction Act.

The information collection requirements contained in this part have been approved by the Office of Management and Budget (OMB) under the provisions of 44 U.S.C. chapter 35 and have been assigned OMB control numbers 0560-0058 and 0560-0182.

Signed at Washington, DC, on November 14, 2003.
James R. Little,
Executive Vice President, Commodity Credit Corporation.

[FR Doc. 03-28990 Filed 11-19-03; 8:45 am]

BILLING CODE 3410-05-P